DEPARTMENT OF TRANSPORTATION

Federal Aviation Administration

14 CFR Part 39

[Docket No. 2000-SW-56-AD; Amendment 39-12104; AD 2001-03-03]

RIN 2120-AA64

Airworthiness Directives; Bell Helicopter Textron, Inc. Model 214B and 214B-1 Helicopters

AGENCY: Federal Aviation Administration, DOT.

ACTION: Final rule; request for comments.

SUMMARY: This amendment adopts a new airworthiness directive (AD) for Bell Helicopter Textron, Inc. (BHTI) Model 214B and 214B-1 helicopters. This action requires, within 10 hours time-in-service (TIS), determining the hours TIS for certain main rotor outboard strap fitting assemblies and creating appropriate records. This action also requires, if any main rotor outboard strap fitting assembly (strap fitting) is determined to have 2,500 or more hours TIS or the hours TIS cannot be determined, replacing the strap fitting with an airworthy strap fitting before further flight. This action also establishes a 2,500-hour retirement life for the strap fitting and revises the Airworthiness Limitations section accordingly. This amendment is prompted by fatigue testing that indicates a fatigue crack may occur in the strap fitting with resulting failure. The actions specified in this AD are intended to prevent failure of a strap fitting, separation of a main rotor blade, and subsequent loss of control of the helicopter.

DATES: Effective February 28, 2001.

Comments for inclusion in the Rules Docket must be received on or before April 16, 2001.

ADDRESSES: Submit comments in triplicate to the Federal Aviation Administration (FAA), Office of the Regional Counsel, Southwest Region, Attention: Rules Docket No. 2000-SW-56-AD, 2601 Meacham Blvd., Room 663, Fort Worth, Texas 76137. You may also send comments electronically to the Rules Docket at the following address: 9-asw-adcomments@faa.gov.

FOR FURTHER INFORMATION CONTACT: Michael Kohner, Aviation Safety Engineer, FAA, Rotorcraft Directorate, Rotorcraft Certification Office, Fort Worth, Texas 76193-0111, telephone (817) 222-5447, fax (817) 222-5783.

SUPPLEMENTARY INFORMATION: This amendment adopts a new AD for BHTI Model 214B and 214B-1 helicopters. This action requires, within 10 hours TIS, determining the hours TIS for each strap fitting, P/N 214-010-185-107, and creating a component history card or equivalent record for each strap fitting. This action also requires that if a strap fitting has 2,500 or more hours TIS or if the hours TIS cannot be determined, replacing the strap fitting with an airworthy strap fitting before further flight. This strap fitting is structurally identical to strap fitting, P/N 214-010-189-103, which currently has a retirement life of 2,500 hours. The strap fitting has been sold for spares since approximately 1982. This amendment is prompted by fatigue testing which indicates that a fatigue crack may occur in the strap fitting leading to failure of the strap fitting if it is allowed to remain in service in excess of 2,500 hours. The actions specified in this AD are intended to prevent a failure of a strap fitting, separation of a main rotor blade, and subsequent loss of control of the helicopter.

The FAA has reviewed BHTI Alert Service Bulletin 214-00-62, dated June 2, 2000, which describes procedures for establishing a 2,500-hour airworthiness life pending formal revision of the 214B series Maintenance Manual and provides information to determine continued serviceability for strap fitting, P/N 214-010-185-107.

We have identified an unsafe condition that is likely to exist or develop on other BHTI Model 214B and 214B-1 helicopters of the same type design. Therefore, this AD is being issued to require the following for each strap fitting, P/N 214-010-185-107:

• Within 10 hours TIS, by referring to the helicopter maintenance records, create a component history card or equivalent record for each strap fitting and record the hours TIS and serial number.

• If the hours TIS cannot be determined, replace the strap fitting with an airworthy strap fitting before further flight.

• If the strap fitting has accumulated 2,500 or more hours TIS, replace it with an airworthy strap fitting before further flight.

• Continue to record the subsequent hours TIS.

• Revise the Airworthiness Limitations section of the maintenance manual by establishing a retirement life of 2,500 hours TIS for the strap fitting.

The short compliance time involved is required because the previously described critical unsafe condition can adversely affect the controllability and structural integrity of the helicopter. Therefore, replacing any strap fitting, P/N 214-010-185-107, that has 2,500 or more hours TIS or a strap fitting for which the hours TIS cannot be determined is required within 10 hours TIS, and this AD must be issued immediately.

Since a situation exists that requires the immediate adoption of this regulation, it is found that notice and opportunity for prior public comment hereon are impracticable, and that good cause exists for making this amendment effective in less than 30 days.

The FAA estimates that 11 helicopters will be affected by this proposed AD, that it will take approximately 14 work hours to replace each of the 2 strap fittings, 2 work hours to create a new component history card, and 10 work hours annually to maintain the records, and that the average labor rate is $60 per work hour. Required parts will cost approximately $4807 per helicopter. Based on these figures, the total cost impact of the AD on U.S. operators is estimated to be $79,277 the first year assuming all strap fittings will be replaced.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption “ADDRESSES.” All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-56-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption “ADDRESSES.”

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-03-03 Bell Helicopter Textron, Inc.: Amendment 39-12104. Docket No. 2000-SW-56-AD.

Applicability: Model 214B and 214B-1 helicopters, with a main rotor outboard strap fitting assembly (strap fitting), part number (P/N) 214-010-185-107, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Within 10 hours time-in-service (TIS), unless accomplished previously.

To prevent failure of a strap fitting, separation of a main rotor blade, and subsequent loss of control of the helicopter, accomplish the following:

Note 2: Bell Helicopter Textron Alert Service Bulletin 214-00-62 dated June 2, 2000, pertains to the subject of this AD.

(a) By referring to the helicopter maintenance records, create a component history card or equivalent record for each strap fitting, and record the hours TIS and serial number.

(1) If the hours TIS cannot be determined, replace the strap fitting with an airworthy strap fitting before further flight.

(2) If the strap fitting has accumulated 2,500 or more hours TIS, replace it with an airworthy strap fitting before further flight.

(b) After accomplishing paragraph (a) of this AD, continue to record the subsequent hours TIS.

(c) This AD revises the Airworthiness Limitations section of the maintenance manual by establishing a life limit of 2,500 hours TIS for the strap fitting, P/N 214-010-185-107.

(d) An alternative method of compliance or adjustment of the compliance time that provides an acceptable level of safety may be used if approved by the Manager, Rotorcraft Certification Office, Rotorcraft Directorate, FAA. Operators shall submit their requests through an FAA Principal Maintenance Inspector, who may concur or comment and then send it to the Manager, Rotorcraft Certification Office.

Note 3: Information concerning the existence of approved alternative methods of compliance with this AD, if any, may be obtained from the Rotorcraft Certification Office.

(e) Special flight permits may be issued in accordance with 14 CFR 21.197 and 21.199 to operate the helicopter to a location where the requirements of this AD can be accomplished.

(f) This amendment becomes effective on February 28, 2001.

Issued in Fort Worth, Texas, on February 1, 2001.
Eric Bries,
Acting Manager, Rotorcraft Directorate,, Aircraft Certification Service.

[FR Doc. 01-3179 Filed 2-12-01; 8:45 am]

BILLING CODE 4910-13-U